DEPARTMENT OF HEALTH AND HUMAN SERVICES

Centers for Medicare & Medicaid Services

42 CFR Parts 410, 411, 414, 415, and 485

[CMS-1413-CN]

RIN 0938-AP40

Medicare Program; Payment Policies Under the Physician Fee Schedule and Other Revisions to Part B for CY 2010; Correction

AGENCY: Centers for Medicare & Medicaid Services (CMS), HHS.

ACTION: Correction of proposed rule.

SUMMARY: This document corrects a technical error in the proposed rule entitled “Medicare Program; Payment Policies Under the Physician Fee Schedule and Other Revisions to Part B for CY 2010” which appears elsewhere in this Federal Register.

FOR FURTHER INFORMATION CONTACT: Diane Milstead, (410) 786-3355.

SUPPLEMENTARY INFORMATION:

I. Background

In FR Doc. E9-15835 of July 13, 2009, there was a technical error that is identified and corrected in the Correction of Errors section below.

II. Summary of Errors

In section V., Regulatory Impact Analysis, of the preamble of the proposed rule entitled “Medicare Program; Payment Policies Under the Physician Fee Schedule and Other Revisions to Part B for CY 2010” that is published elsewhere in this Federal Register, we inadvertently omitted language regarding the impact of the proposed Physician Fee Schedule Update for CY 2010.

III. Correction of Errors

In FR Doc. E9-15835 of July 13, 2009, to make a correction to section V. of the preamble, the Regulatory Impact Analysis, prior to the section labeled “U. Alternatives Considered,” the following language should be inserted:

“L. Physician Fee Schedule Update for CY 2010 In section II.P. of the proposed rule, we describe our proposal to remove physician-administered drugs from the definition of physicians' services for purposes of calculating allowed and actual expenditures for all years since the 1996/1997 base year, and for purposes of calculating the SGR for 2010 and all subsequent years. While this proposal would not change the projected −21.5 percent physician payment rate update for services furnished on or after January 1, 2010, this change would reduce the discrepancy between actual and target expenditures. Based on the President's budget, we estimate this proposal would cost $45.4 billion from 2010 to 2014. Projected updates would increase over this same period from between −6.3 and −5.4 percent to between −3.1 and +1.4 percent respectively.”

Authority: Catalog of Federal Domestic Assistance Program No. 93.773, Medicare—Hospital Insurance; and Program No. 93.774, Medicare—Supplementary Medical Insurance Program.

Dated: July 8, 2009.
Ashley Files Flory,
Acting Executive Secretary to the Department.

[FR Doc. E9-16507 Filed 7-8-09; 4:15 pm]

BILLING CODE 4120-01-P